DEPARTMENT OF JUSTICE

[OMB Number 1121-0094]

Agency Information Collection Activities; Proposed eCollection eComments Requested; Reinstatement, With Change, of a Previously Approved Collection for Which Approval Has Expired: Annual Survey of Jails

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until April 24, 2023.

FOR FURTHER INFORMATION CONTACT: If you have comments especially on the estimated public burden or associated response time, suggestions, or need a copy of the proposed information collection instrument with instructions or additional information, please contact Zhen Zeng, Bureau of Justice Statistics, 810 Seventh Street NW, Washington, DC 20531 (email: Zhen.Zeng@usdoj.gov; telephone: 202-598-9955).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. Title of the Form/Collection: Annual Survey of Jails (ASJ).

3. Agency form number, if any, and the applicable component of the Department of Justice sponsoring the collection: The ASJ contains one form: CJ-5: 2023 Annual Survey of Jails and 2025 Annual Survey of Jails. The applicable component within the Department of Justice is the Bureau of Justice Statistics (BJS), in the Office of Justice Programs. The ASJ is fielded every year except in the years when BJS conducts the Census of Jails (OMB Control No. 1121-0100). BJS requests clearance for the 2023 and 2025 ASJ under OMB Control No. 1121-0094. In 2024, BJS plans to conduct the Census of Jails and will not field the ASJ in the same year. The ASJ was last approved under OMB Control No. 1121-0094 (exp. date 06/30/2023).

4. Affected public who will be asked or required to respond, as well as a brief abstract: Respondents will include approximately 940 jails, representing approximately 2,850 local jails (city, county, regional, and private). The ASJ is the only national collection that tracks annual changes in the local jail population in the United States and provides national estimates on the number of persons confined in jails, the number of persons jails supervised in programs outside jail, characteristics of the jail population, counts of admissions and releases, and number of staff employed. Policymakers, correctional administrators, and government officials use the ASJ data to develop new policies and procedures, plan budgets, and maintain critical oversight.

5. An estimate of the total number of respondents and the amount of time estimated for an average respondent to respond: The 2023 and 2025 ASJ will collect data from approximately 940 jails (see table 1). For each data collection cycle, we estimate an average burden of 80 minutes for the updated survey form CJ-5. If needed, jail respondents will be contacted by email or telephone to verify data quality issues. We estimate that data quality follow-up is needed for 70% of the jails (658) in each cycle and will run an average of 10 minutes for each jail. In addition, we estimate that 10% of the jails (94) in each cycle will be contacted to verify point-of-contact information, which takes 5 minutes each on average. In total, the ASJ will incur a burden estimate of 1,371 hours, or 88 minutes per respondent, each year in 2023 and 2025. These estimates are based on previous estimates of item burden and input received from participants in the 2018 jail collection cognitive test (generic OMB clearance, Control No. 1121-0249).

If additional information is required, contact: John R. Carlson, Department Clearance Officer, United States Department of Justice, Justice Management Division, Policy and Planning Staff, Two Constitution Square, 145 N Street NE, 4W-218, Washington, DC 20530.

Dated: February 15, 2023.
John R. Carlson,
Department Clearance Officer for PRA, Policy and Planning Staff, U.S. Department of Justice.

[FR Doc. 2023-03592 Filed 2-21-23; 8:45 am]

BILLING CODE 4410-18-P